DEPARTMENT OF COMMERCE

Foreign-Trade Zones Board

[Docket 67-2010]

Foreign-Trade Zone 72—Indianapolis, IN, Application for Subzone, GEA Bloomington Production Operations, LLC (Refrigerator Manufacturing), Bloomington, IN

An application has been submitted to the Foreign-Trade Zones Board (the Board) by the Indianapolis Airport Authority, grantee of FTZ 72, requesting special-purpose subzone status for the refrigerator manufacturing facility of GEA Bloomington Production Operations, LLC (GEA Bloomington), located in Bloomington, Indiana. The application was submitted pursuant to the provisions of the Foreign-Trade Zones Act, as amended (19 U.S.C. 81a-81u), and the regulations of the Board (15 CFR part 400). It was formally filed on November 19, 2010.

The GEA Bloomington facility (500 employees, 80.0 acres, 800,000 unit capacity) is located at 301 N. Curry Pike, Bloomington, Indiana. The facility is used for the manufacture and distribution of refrigerators. Components and materials sourced from abroad (representing 50% of the value of the finished product) include: ABS resin, plastic fittings, rubber gaskets, screws, bolts, hinges, brackets, metal plates, compressors, filters, taps, valves, motors, inverters, wire harnesses, switches, plugs, sockets, electronic control boards, lamps, light dispensers, harness machines, conductors, and refrigerator parts (duty rate ranges from duty free to 8.6%).

FTZ procedures could exempt GEA Bloomington from customs duty payments on the foreign components used in export production. The company anticipates that less than 1% of the plant's shipments will be exported. On its domestic sales, GEA Bloomington would be able to choose the duty rates during customs entry procedures that apply to refrigerators and refrigerator parts (duty free) for the foreign inputs noted above. FTZ designation would further allow GEA Bloomington to realize logistical benefits through the use of weekly customs entry procedures. Customs duties also could possibly be deferred or reduced on foreign status production equipment. The request indicates that the savings from FTZ procedures would help improve the plant's international competitiveness.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is January 31, 2011. Rebuttal comments in response to material submitted during the foregoing period may be submitted during the subsequent 15-day period to February 14, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Maureen Hinman at maureen.hinman@trade.gov or (202) 482-0627.

Dated: November 19, 2010.
Andrew McGilvray,
Executive Secretary.

[FR Doc. 2010-30127 Filed 11-29-10; 8:45 am]

BILLING CODE 3510-DS-P